DEPARTMENT OF COMMERCE

Economic Development Administration

Notice of National Advisory Council on Innovation and Entrepreneurship Meeting

AGENCY: Economic Development Administration, Department of Commerce.

ACTION: Notice of an open meeting.

SUMMARY: The National Advisory Council on Innovation and Entrepreneurship (NACIE) will hold a virtual public meeting on November 19, 2024. This will be the current NACIE members' seventh meeting since their appointments in 2022. During this meeting, NACIE expects to discuss strategies to unlock sources of capital to leverage federal investments, aligned with the U.S. Department of Commerce's existing work in this area.

DATES: November 19, 2024, 2:00 p.m.-3:00 p.m. Eastern Time (ET).

ADDRESSES: The meeting will be held virtually with no in-person component or option. Teleconference or web conference connection information will be published prior to the meeting along with the agenda on the NACIE website at https://www.eda.gov/strategic-initiatives/national-advisory-council-on-innovation-and-entrepreneurship/meetings.

FOR FURTHER INFORMATION CONTACT: Eric Smith, Office of the Assistant Secretary, 1401 Constitution Avenue NW, Room 78018, Washington, DC 20230; email: nacie@doc.gov; telephone: +1 202 482 8001. Please reference “NACIE November 2024 Meeting” in the subject line of your correspondence.

SUPPLEMENTARY INFORMATION: NACIE, established pursuant to section 25(c) of the Stevenson-Wydler Technology Innovation Act of 1980, as amended (15 U.S.C. 3720(c)), is a Federal Advisory Committee Act committee that provides advice directly to the Secretary of Commerce.

NACIE has been charged with developing a national entrepreneurship strategy that strengthens America's ability to compete and win as the world's leading startup nation and as the world's leading innovator in critical emerging technologies. NACIE also has been charged with identifying and recommending solutions to drive the innovation economy, including growing a skilled STEM workforce and removing barriers for entrepreneurs ushering innovative technologies into the market. The Council facilitates federal dialogue with the innovation, entrepreneurship, and workforce development communities. Throughout its history, NACIE has presented recommendations to the Secretary of Commerce along the research-to-jobs continuum, such as increasing access to capital, growing and connecting entrepreneurial communities, fostering small business-driven research and development, supporting the commercialization of key technologies, and developing the workforce of the future.

The final agenda for the meeting will be posted on the NACIE website at https://www.eda.gov/strategic-initiatives/national-advisory-council-on-innovation-and-entrepreneurship/meetings prior to the meeting. Any member of the public may submit pertinent questions and comments concerning NACIE's affairs at any time before or after the meeting. Comments may be submitted to Eric Smith (see contact information above). Those wishing to listen to the proceedings can do so via teleconference or web conference (see above). Copies of the meeting minutes will be available by request within 90 days of the meeting date.

Date: October 22, 2024.
Peter Langlois,
Group Federal Officer.

[FR Doc. 2024-24864 Filed 10-24-24; 8:45 am]

BILLING CODE 3510-24-P